DEPARTMENT OF THE INTERIOR

National Park Service

[2253-665]

Notice of Inventory Completion: The Region of Three Oaks Museum, Three Oaks, MI

AGENCY: National Park Service, Interior.

ACTION: Notice.

SUMMARY: The Region of Three Oaks Museum has completed an inventory of human remains, in consultation with the appropriate Indian tribe, and has determined that there is a cultural affiliation between the human remains and a present-day Indian tribe. Representatives of any Indian tribe that believes itself to be culturally affiliated with the human remains may contact The Region of Three Oaks Museum. Repatriation of the human remains to the Indian tribe stated below may occur if no additional claimants come forward.

DATES: Representatives of any Indian tribe that believes it has a cultural affiliation with the human remains should contact The Region of Three Oaks Museum at the address below by May 21, 2012.

ADDRESSES: Judy A Jackson Vice President, The Region of Three Oaks Museum, P.O. Box 121, Three Oaks, MI 49128, telephone (269) 612-0107.

SUPPLEMENTARY INFORMATION: Notice is here given in accordance with the Native American Graves Protection and Repatriation Act (NAGPRA), 25 U.S.C. 3003, of the completion of inventory of human remains in the possession of The Region of Three Oaks Museum. The human remains were removed from an unknown location near the river between Menominee, MI, and Marinette, WI.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made by The Region of Three Oaks Museum staff in consultation with representatives of the Menominee Indian Tribe of Wisconsin.

History and Description of the Remains

Prior to 1940, human remains representing, at minimum, one individual were removed from an unknown location near the river between Menominee, MI, and Marinette, WI. The human remains were found during a fishing excursion by the uncle of Lyle Perkins, a resident of Three Oaks, MI, and remained in the possession of the Perkins family until the remains were donated to The Region of Three Oaks Museum approximately eight years ago. A handwritten note from the donor's family states that the remains were analyzed by the Smithsonian Institute, but no other documentation supports this assertion. The human remains consist of one complete human skull, possibly female. No known individual was identified. No associated funerary objects are present.

Due to the location of the recovery of the remains, it is believed the remains are Native American and are affiliated to the Menominee Indian Tribe of Wisconsin. Consultation with the Menominee Indian Tribe of Wisconsin supported this affiliation.

Determinations Made by The Region of Three Oaks Museum

Officials of The Region of Three Oaks Museum have determined that:

• Pursuant to 25 U.S.C. 3001(9), human remains described in this notice represent the physical remains of one individual of Native American ancestry.

• Pursuant to 25 U.S.C. 3001(2), there is a relationship of shared group identity that can be reasonably traced between the Native American human remains and the Menominee Indian Tribe of Wisconsin.

Additional Requestors and Disposition

Representatives of any Indian tribe that believes it to be culturally affiliated with human remains should contact Judy Jackson, Vice President, The Region of Three Oaks Museum, P.O. Box 121, Three Oaks, MI 49128, telephone (269) 612-0107 before May 21, 2012. Repatriation of the human remains to the Menominee Indian Tribe of Wisconsin may proceed after that date if no additional claimants come forward.

The Region of Three Oaks Museum is responsible for notifying the Menominee Indian Tribe of Wisconsin that this notice has been published.

Dated: April 12, 2012.
David Tarler,
Acting Manager, National NAGPRA Program.

[FR Doc. 2012-9474 Filed 4-18-12; 8:45 am]

BILLING CODE 4312-50-P